DEPARTMENT OF ENERGY

National Nuclear Security Administration

Presidential Directed Mission Requiring Authorization of National Security Provisions

AGENCY: National Nuclear Security Administration, Department of Energy.

ACTION: Notice of emergency action.

SUMMARY: The U.S. Department of Energy (DOE) is issuing this notice of emergency action regarding its authorization of national security provisions related to a recent U.S. mission to assist the Libyan government in reducing its inventories of proliferation-sensitive nuclear materials. On January 27, 2004, a U.S.-led team of policy and technical experts successfully extracted from Libya some of its nuclear materials. In order to expedite the removal of these materials from the site, the National Nuclear Security Administration (NNSA) Administrator invoked the national security provisions of 49 CFR 173.7(b) and exempted the transport from DOE Order 461.1, Packaging and Transfer of Materials of National Security Interest, thereby allowing the shipment of items by air to the McGhee Tyson Airport at Knoxville, TN and from there to the Y-12 National Security Complex at Oak Ridge, TN by land transport. The shipment included four cylinders of uranium hexafluoride (UF6) of varying enrichment levels.

DOE would normally prepare an Environmental Assessment or Environmental Impact Statement analyzing this shipment pursuant to its National Environmental Policy Act (NEPA) implementing regulations (10 CFR part 1021). However, due to the urgent and classified nature of the actions required to perform this mission, DOE consulted with the Council on Environmental Quality about alternative arrangements with regard to NEPA compliance for its authorization of national security provisions pursuant to the Council NEPA regulation at 40 CFR 1506.11. This notice is issued pursuant to the requirements of 10 CFR 1021.343.

FOR FURTHER INFORMATION CONTACT: For further information on these activities or other information related to this notice, contact: William O'Connor, NNSA, Office of Safeguards (NA-243), 1000 Independence Avenue, SW., Washington, DC 20585, (202) 586-4867.

For information on the DOE National Environmental Policy Act (NEPA) process, contact: Carol M. Borgstrom, Director, Office of NEPA Policy and Compliance (EH-42), U.S. Department of Energy, 1000 Independence Avenue, SW., Washington, DC 20585, (202) 586-4600, or leave a message at (800) 472-2756.

SUPPLEMENTARY INFORMATION: On December 19, 2003, in a decision announced by the United States, the United Kingdom, and Libya, the Libyan government agreed to disclose all its weapons of mass destruction and related programs and to open the country to international weapons inspectors to oversee their elimination. In order to assist Libya in the reduction of its proliferation-sensitive materials, the United States, United Kingdom and the International Atomic Energy Agency (IAEA) sent a team of policy and technical experts to Libya. On January 27, 2004, this team, with the full cooperation of the Libyan government, successfully extracted 55,000 pounds of nuclear material and other sensitive equipment from Libya. This shipment included four cylinders of uranium hexafluoride (UF6) that required a National Security Exemption under DOE Order 461.1, Packaging and Transfer of Materials of National Security Interest, because the containers were not certified under 49 CFR 173.7(b). The equipment and materials were airlifted out of Libya and brought to the McGhee Tyson Airport in Knoxville, TN. The nuclear cargo then was transported to the Y-12 National Security Complex in Oak Ridge, TN for International Atomic Energy Agency (IAEA) inspection and to prepare cylinders for transport to their final destination.

This material was moved as part of a Presidential directed mission. There was insufficient time between the President's directive and the expected movement of the material to conduct an environmental review; hence, the need for alternative arrangements with regard to NEPA compliance. The NNSA Administrator was provided with a classified environmental review contained in an Appendix to a draft Environmental Impact Statement which bounded the accident scenarios. Following review, the NNSA Administrator invoked the national security provisions of 49 CFR 173.7(b) and exempted this transport from DOE Order 461.1, thereby allowing shipment of these items by air to the McGhee Tyson Airport and from there to their destination by land transport.

The Council on Environmental Quality (CEQ) and the Environmental Protection Agency were briefed in advance of the mission. CEQ found the NNSA's request for alternative arrangements was appropriately limited to the actions necessary to address the immediate impacts and risks associated with this emergency. Based on the briefing that DOE personnel provided, and their commitment to outreach to EPA and appropriate First Responders, CEQ concluded that the NNSA's assessment of the environmental impact of the proposed action, including incorporation of an existing classified analysis of a similar scenario, provided sufficient alternative arrangements for NEPA compliance. The CEQ also was briefed following the completion of the mission.

The expedited removal of these materials from Libya was consistent with national security goals related to the consolidation, storage, and disposition of potential weapons-usable materials and supports the nonproliferation policies of the United States. Granting this national security exemption supported the expedited removal of the material consistent with the nonproliferation goals of the Department of Energy and the President of the United States.

The Y-12 Site Office ensured that the following conditions were met: First responders at McGhee Tyson Airport were notified of the timing and nature of the shipment. The shipment was escorted by personnel specifically designated by or under the authority of the Department of Energy.

The materials arrived at Y-12 without incident and accordingly without any environmental consequences and will be stored there pending IAEA inspection and shipment to the Portsmouth Gaseous Diffusion Plant, Piketon, OH.

Issued in Washington, DC, on February 27, 2004.
Henry K. Garson,
Associate General Counsel, National Nuclear Security Administration.

[FR Doc. 04-5017 Filed 3-4-04; 8:45 am]

BILLING CODE 6450-01-M